DEPARTMENT OF TRANSPORTATION

Federal Aviation Administration

14 CFR Part 39

[Docket No. FAA-2009-0712; Directorate Identifier 2007-NM-152-AD; Amendment 39-16205; AD 2010-04-12]

RIN 2120-AA64

Airworthiness Directives; Bombardier, Inc. Model DHC-8-100 and DHC-8-200 Series Airplanes, and Model DHC-8-301, -311, and -315 Airplanes

AGENCY: Federal Aviation Administration (FAA), DOT.

ACTION: Final rule.

SUMMARY: We are adopting a new airworthiness directive (AD) for certain Model DHC-8-100 and DHC-8-200 series airplanes, and DHC-8-301, -311, and -315 airplanes. This AD requires implementing a corrosion prevention and control program (CPCP) either by accomplishing specific tasks or by revising the maintenance inspection program to include a CPCP. This AD results from the determination that, as airplanes age, they are more likely to exhibit indications of corrosion. We are issuing this AD to prevent structural failure of the airplane due to corrosion.

DATES: This AD is effective April 8, 2010.

The Director of the Federal Register approved the incorporation by reference of certain publications listed in this AD as of April 8, 2010.

ADDRESSES: For service information identified in this AD, contact Bombardier, Inc., 400 Côte-Vertu Road West, Dorval, Québec H4S 1Y9, Canada; telephone 514-855-5000; fax 514-855-7401; e-mail thd.qseries@aero.bombardier.com; Internet http://www.bombardier.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Craig Yates, Aerospace Engineer, Airframe and Mechanical Systems Branch, ANE-171, FAA, New York Aircraft Certification Office, 1600 Stewart Avenue, Suite 410, Westbury, New York 11590; telephone (516) 228-7355; fax (516) 794-5531.

SUPPLEMENTARY INFORMATION:

Discussion

We issued a notice of proposed rulemaking (NPRM) to amend 14 CFR part 39 to include an airworthiness directive (AD) that would apply to certain Bombardier Model DHC-8-100 and DHC-8-200 series airplanes, and DHC-8-301, -311, and -315 airplanes. That NPRM was published in the Federal Register on August 13, 2009 (74 FR 40778). That NPRM proposed to require implementing a corrosion prevention and control program (CPCP) either by accomplishing specific tasks or by revising the maintenance inspection program to include a CPCP.

Comments

We gave the public the opportunity to participate in developing this AD. We considered the comment received from the single commenter.

Request for Clarification of Inspections

Mesa Airlines requests that we restate that the inspections required by paragraph (h) of this AD to specify to inspect for Environmental Damage and/or Corrosion Protection and Control Program (ED/CPCP). The commenter asserts that the NPRM would require only tasks identified as both ED and CPCP. Mesa Airlines notes that accomplishing the ED/CPCP inspections only does not encompass the Air Transport Association (ATA) of America Codes listed in the NPRM.

We agree. Canadian AD CF-2007-06, dated April 10, 2007, describes doing “ED/CPCP” inspections. The required actions include “ED” inspections and inspections identified as both “ED” and “CPCP.” We have clarified this in paragraph (h) of this AD. This has been coordinated with TCCA. We have also revised paragraphs (i) and (i)(2) of this AD to clarify the inspections.

Explanation of Change Made to This AD

We have revised this AD to identify the legal name of the manufacturer as published in the most recent type certificate data sheet for the affected airplane models.

Conclusion

We reviewed the relevant data, considered the comment received, and determined that air safety and the public interest require adopting the AD with the changes described previously. We also determined that these changes will not increase the economic burden on any operator or increase the scope of the AD.

Explanation of Change to Costs of Compliance

Since issuance of the NPRM, we have increased the labor rate used in the Costs of Compliance from $80 per work-hour to $85 per work-hour. The Costs of Compliance information, below, reflects this increase in the specified hourly labor rate.

Costs of Compliance

This AD affects about 154 airplanes of U.S. registry. There are between 16 and 17 specific inspections, depending on the applicable manual identified in Table 1 of this AD. The inspections take about 53 work hours per airplane, per inspection cycle, at an average labor rate of $85 per work hour. Based on these figures, the estimated cost of this AD for U.S. operators is $693,770, or $4,505 per airplane, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by Reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-12 Bombardier, Inc.: Amendment 39-16205. Docket No. FAA-2009-0712; Directorate Identifier 2007-NM-152-AD.

Effective Date

(a) This airworthiness directive (AD) is effective April 8, 2010.

Affected ADs

(b) None.

Applicability

(c) This AD applies to Bombardier, Inc. Model DHC-8-101, DHC-8-102, DHC-8-103, DHC-8-106, DHC-8-201, DHC-8-202, DHC-8-301, DHC-8-311, and DHC-8-315 airplanes, certificated in any category; serial numbers 003 and subsequent.

Subject

(d) Air Transport Association (ATA) of America Codes 32: Landing Gear, 51: Standard Practices/Structures; 52: Doors; 53: Fuselage; 54: Nacelles/Pylons; 55: Stabilizers; and 57: Wings.

Unsafe Condition

(e) This AD results from the determination that, as airplanes age, they are more likely to exhibit indications of corrosion. We are issuing this AD to prevent structural failure of the airplane due to corrosion.

Compliance

(f) You are responsible for having the actions required by this AD performed within the compliance times specified, unless the actions have already been done.

Manual References

(g) This AD refers to the manuals listed in Table 1 of this AD.

Table 1—Applicable Manuals
Bombardier model | Manual
(1) DHC-8-101, -102, -103, and -106 airplanes | Part 1, Section 3, Structural Inspection Program, of the Bombardier de Havilland Dash 8 Maintenance Program Maintenance Review Board Report Dash 8 Series 100 Program Support Manual (PSM) 1-8-7, Revision 22, dated November 1, 2008.
(2) DHC-8-201 and DHC-8-202 airplanes | Part 1, Section 3, Structural Inspection Program, of the Bombardier de Havilland Dash 8 Maintenance Program Maintenance Review Board Report Dash 8 Series 200 PSM 1-82-7, Revision 13, dated November 1, 2008.
(3) Model DHC-8-301, DHC-8-311, and DHC-8-315 airplanes | Part 1, Section 3, Structural Inspection Program, of the Bombardier de Havilland Dash 8 Maintenance Program Maintenance Review Board Report Dash 8 Series 300, PSM 1-83-7, Revision 22, dated November 1, 2008.

Inspections

(h) At the later of the times specified in paragraphs (h)(1) and (h)(2) of this AD, do each of the Environmental Damage/Corrosion Protection and Control Program (ED/CPCP) inspections identified with both “ED” and “CPCP,” or with only “ED,” including re-protection tasks, as applicable, which are found in the “Type of Damage” column of the applicable manual found in Table 1 of this AD, in accordance with the applicable manual identified in Table 1 of this AD. Except as provided by paragraph (i) of this AD, repeat each task thereafter at intervals not to exceed the compliance time specified in the “Repeat” column of the applicable manual identified in Table 1 of this AD.

(1) Within 24 months after the effective date of this AD.

(2) At the compliance time specified in the “Threshold” column of the applicable manual identified in Table 1 of this AD since the date of issuance of the original Canadian airworthiness certificate or the date of issuance of the original Canadian export certificate of airworthiness. If there is no value in the “Threshold” column, use the time specified in the “Repeat” column.

(i) After accomplishment of each initial ED/CPCP and ED task required by paragraph (h) of this AD, the FAA may approve the incorporation into the operator's approved maintenance/inspection program of the CPCP specified in the applicable manual identified in Table 1 of this AD; or the equivalent program that is approved in accordance with this AD. In all cases, the initial corrosion task for each airplane area must be completed by the initial compliance time specified in paragraph (h) of this AD.

(1) Any operator complying with paragraph (i) of this AD may use an alternative recordkeeping method to that otherwise required by section 91.417 (“Maintenance records”) or section 121.380 (“Maintenance recording requirements”) of the Federal Aviation Regulations (14 CFR 91.417 or 14 CFR 121.380, respectively) for the actions required by this AD, provided that the recordkeeping method is approved by the FAA and is included in a revision to the maintenance/inspection program. For the purposes of this paragraph, “the FAA” is defined as the cognizant Principal Maintenance Inspector (PMI) for operators that are assigned a PMI (i.e., part 121, 125, and 135 operators), and the cognizant Flight Standards District Office for other operators (i.e., part 91 operators).

(2) After the initial accomplishment of the ED/CPCP and ED tasks required by paragraph (h) of this AD, any extension of the repetitive intervals specified in the manual must be approved by the Manager, New York Aircraft Certification Office (ACO), FAA.

Corrective Actions

(j) If any corrosion is found during accomplishment of any action required by paragraph (h) of this AD: Before further flight, rework, repair, or replace, as applicable, in accordance with a method approved by either the Manager, New York ACO, FAA; or Transport Canada Civil Aviation (TCCA) (or its delegated agent).

Reporting Requirements for Level 3 Corrosion Findings

(k) If any Level 3 corrosion, as defined in Part 1 of the Bombardier (de Havilland) DHC-6 Twin Otter, Dash 7 & Dash 8 Corrosion Prevention and Control Manual, PSM 1-GEN-5, Revision 3, dated November 30, 1998, is found during the accomplishment of any action required by this AD, do paragraphs (k)(1), (k)(2), and (k)(3) of this AD. Under the provisions of the Paperwork Reduction Act (44 U.S.C. 3501 et seq.), the Office of Management and Budget (OMB) has approved the information collection requirements and has assigned OMB Control Number 2120-0056.

(1) Within 3 days after the finding of Level 3 corrosion, report findings to the Manager, New York ACO, FAA, in accordance with the Bombardier (de Havilland) DHC-6 Twin Otter, Dash 7 & Dash 8 Corrosion Prevention and Control Manual, PSM 1-GEN-5, Revision 3, dated November 30, 1998.

(2) Within 10 days after the finding of Level 3 corrosion, either submit a plan to the FAA to identify a schedule for accomplishing the applicable CPCP task on the remainder of the airplanes in the operator's fleet that are subject to this AD, or provide data substantiating that the Level 3 corrosion that was found is an isolated case. The FAA may impose a schedule other than that proposed in the plan upon finding that a change to the schedule is needed to ensure that any other Level 3 corrosion is detected in a timely manner. For the purposes of this paragraph, “the FAA” is defined as the cognizant Principal Maintenance Inspector (PMI) for operators that are assigned a PMI (i.e., part 121, 125, and 135 operators), and the cognizant Flight Standards District Office for other operators (i.e., part 91 operators).

(3) Within the time schedule approved in accordance with paragraph (k)(2) of this AD, accomplish the applicable task on the remainder of the airplanes in the operator's fleet that are subject to this AD.

Limiting Future Corrosion Findings

(l) If corrosion findings that exceed Level 1 are found in any area during any repeat of any CPCP task after the initial accomplishment required by paragraph (h) of this AD: Within 60 days after such finding, implement a means approved by the FAA to reduce future findings of corrosion in that area to Level 1 or better. For the purposes of this paragraph, “the FAA” is defined as the cognizant PMI for operators that are assigned a PMI (i.e., part 121, 125, and 135 operators), and the cognizant Flight Standards District Office for other operators (i.e., part 91 operators).

Scheduling Corrosion Tasks for Transferred Airplanes

(m) Before any airplane subject to this AD is transferred and placed into service by an operator: Establish a schedule for accomplishing the CPCP tasks required by this AD in accordance with paragraph (m)(1) or (m)(2) of this AD, as applicable.

(1) For airplanes on which the CPCP tasks required by this AD have been accomplished previously at the schedule established by this AD: Perform the first CPCP task in each area in accordance with the previous operator's schedule, or in accordance with the new operator's schedule, whichever results in an earlier accomplishment of that CPCP task. After the initial accomplishment of each CPCP task in each area as required by this paragraph, repeat each CPCP task in accordance with the new operator's schedule.

(2) For airplanes on which the CPCP tasks required by this AD have not been accomplished previously, or have not been accomplished at the schedule established by this AD: The new operator must perform each initial CPCP task in each area before further flight or in accordance with a schedule approved by the FAA. For the purposes of this paragraph, “the FAA” is defined as the cognizant Principal Maintenance Inspector (PMI) for operators that are assigned a PMI (i.e., part 121, 125, and 135 operators), and the cognizant Flight Standards District Office for other operators (i.e., part 91 operators).

Alternative Methods of Compliance (AMOCs)

(n)(1) The Manager, New York ACO, ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Related Information

(o) Canadian airworthiness directive CF-2007-06, dated April 10, 2007, also addresses the subject of this AD.

Material Incorporated by Reference

(p) You must use the service information contained in Table 2 of this AD, as applicable, to do the actions required by this AD, unless the AD specifies otherwise.

Table 2—Material Incorporated by Reference
Document | Revision | Date
Part 1, Section 3, Structural Inspection Program, of the Bombardier de Havilland Dash 8 Maintenance Program Maintenance Review Board Report Dash 8 Series 100 Program Support Manual (PSM) 1-8-7 | 22 | November 1, 2008.
Part 1, Section 3, Structural Inspection Program, of the Bombardier de Havilland Dash 8 Maintenance Program Maintenance Review Board Report Series 200 PSM 1-82-7 | 13 | November 1, 2008.
Part 1, Section 3, Structural Inspection Program, of the Bombardier de Havilland Dash 8 Maintenance Program Maintenance Review Board Report Dash 8 Series 300, PSM 1-83-7 | 22 | November 1, 2008.
Bombardier (de Havilland) DHC-6 Twin Otter, Dash 7 & Dash 8 Corrosion Prevention and Control Manual, PSM 1-GEN-5, Part 1 | 3 | November 30, 1998.

Bombardier de Havilland Dash 8 Maintenance Program Maintenance Review Board Report Dash 8 Series 100 PSM 1-8-7, Revision 22, dated November 1, 2008, contains the following effective pages:

List of Effective Pages
Page title/ description | Page number(s) | Revision number | Date shown on page(s)
Title Page | None shown | 22 | November 1, 2008.
List of Effective Pages | 1-4 | None shown* | November 1, 2008.
Log of Revisions | 1-18 | None shown* | November 1, 2008.
Record of Revisions | 1-2 | 22 | November 1, 2008.
Contents | 1-4 | None shown* | November 1, 2008.
Section 3:
Subject 3-0 | 1-4 | None shown* | November 1, 2008.
Subject 3-32 | 1-2 | None shown* | November 1, 2008.
Subject 3-52 | 1-2 | None shown* | November 1, 2008.
Subject 3-53 | 1-16 | None shown* | November 1, 2008.
Subject 3-54 | 1-4 | None shown* | November 1, 2008.
Subject 3-55 | 1-8 | None shown* | November 1, 2008.
Subject 3-57 | 1-12 | None shown* | November 1, 2008.

Bombardier de Havilland Dash 8 Maintenance Program Maintenance Review Board Report Dash 8 Series 200 PSM 1-82-7, Revision 13, dated November 1, 2008, contains the following effective pages:

List of Effective Pages
Page title/ description | Page number(s) | Revision number | Date shown on page(s)
Title Page | None shown | 13 | November 1, 2008.
List of Effective Pages | 1-4 | None shown* | November 1, 2008.
Log of Revisions | 1-8 | None shown* | November 1, 2008.
Record of Revisions | 1-2 | 13 | November 1, 2008.
Contents | 1-4 | None shown* | November 1, 2008.
Section 3:
Subject 3-0 | 1-4 | None shown* | November 1, 2008.
Subject 3-32 | 1-2 | None shown* | November 1, 2008.
Subject 3-52 | 1-2 | None shown* | November 1, 2008.
Subject 3-53 | 1-16 | None shown* | November 1, 2008.
Subject 3-54 | 1-4 | None shown* | November 1, 2008.
Subject 3-55 | 1-6 | None shown* | November 1, 2008.
Subject 3-57 | 1-12 | None shown* | November 1, 2008.

Bombardier de Havilland Dash 8 Maintenance Program Maintenance Review Board Report Dash 8 Series 300 PSM 1-83-7, Revision 22, dated November 1, 2008, contains the following effective pages:

List of Effective Pages
Page title/description | Page number(s) | Revision number | Date shown on page(s)
Title Page | None shown | 22 | November 1, 2008.
List of Effective Pages | 1-4 | None shown* | November 1, 2008.
Log of Revisions | 1-18 | None shown* | November 1, 2008.
Record of Revisions | 1-2 | 22 | November 1, 2008.
Contents | 1-4 | None shown* | November 1, 2008.
Section 3:
Subject 3-0 | 1-4 | None shown* | November 1, 2008.
Subject 3-32 | 1-2 | None shown* | November 1, 2008.
Subject 3-52 | 1-2 | None shown* | November 1, 2008.
Subject 3-53 | 1-18 | None shown* | November 1, 2008.
Subject 3-54 | 1-4 | None shown* | November 1, 2008.
Subject 3-55 | 1-8 | None shown* | November 1, 2008.
Subject 3-57 | 1-12 | None shown* | November 1, 2008.
(*Only the title page and Record of Revisions of these documents specify the revision level of these documents.)

Bombardier (de Havilland) DHC-6 Twin Otter, Dash 7 & Dash 8 Corrosion Prevention and Control Manual PSM 1-GEN-5, Part 1, Revision 3, dated November 30, 1998, contains the following effective pages:

List of Effective Pages
Page title/ description | Page number(s) | Revision number | Date shown on page(s)
Title Page | None shown | None shown* | November 8, 1993.
Record of Revisions | 1 | 3 | August 27, 1991.
| 2 | None shown* | August 27, 1991.
Part 1 List of Effective Pages | 1-2 | None shown* | November 30, 1998.
Part 1 Table of Contents | 1-4 | None shown* | November 8, 1993.
Part 1 List of Illustrations | 1-2 | None shown* | November 8, 1993.
Part 1 List of Tables | 1 | None shown* | November 8, 1993.
| 2 | None shown* | August 27, 1991.
Introduction | 1-2 | None shown* | November 8, 1993.
| 3-4 | None shown* | November 5, 1992.
Chapter 1 | 1-1 through 1-10 | None shown* | November 8, 1993.
Chapter 2 | 2-1 through 2-6 | None shown* | November 8, 1993.
Chapter 3 | 3-1 through 3-4 | None shown* | November 8, 1993.
Chapter 4 | 4-1 through 4-44 | None shown* | November 8, 1993.
Chapter 5 | 5-1 through 5-48 | None shown* | November 8, 1993.
Chapter 6 | 6-1 through 6-8, 6-11 through 6-16 | None shown* | August 27, 1991.
| 6-9 | None shown* | November 8, 1993.
| 6-10 | None shown* | November 5, 1992.
Chapter 7 | 7-1 through 7-2 | None shown* | November 8, 1993.
Chapter 8 | 8-1 through 8-4 | None shown* | November 8, 1993.
Chapter 9 | 9-1 through 9-4 | None shown* | November 30, 1998.
(*Only page 1 of the Record of Revisions of Bombardier (de Havilland) DHC-6 Twin Otter, Dash 7 & Dash 8 Corrosion Prevention and Control Manual PSM 1-GEN- 5, Part 1, Revision 3, contains the revision level of this document.)

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.qseries@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 11, 2010.
Ali Bahrami,
Manager, Transport Airplane Directorate, Aircraft Certification Service.

[FR Doc. 2010-3226 Filed 3-3-10; 8:45 am]

BILLING CODE 4910-13-P